RAILROAD RETIREMENT BOARD

Agency Forms Submitted for OMB Review, Request for Comments

SUMMARY: In accordance with the Paperwork Reduction Act of 1995 (44 U.S.C. Chapter 35), the Railroad Retirement Board (RRB) is forwarding five Information Collection Requests (ICR) to the Office of Information and Regulatory Affairs (OIRA), Office of Management and Budget (OMB). Our ICR describes the information we seek to collect from the public. Review and approval by OIRA ensures that we impose appropriate paperwork burdens.

The RRB invites comments on the proposed collection of information to determine (1) The practical utility of the collection; (2) the accuracy of the estimated burden of the collection; (3) ways to enhance the quality, utility, and clarity of the information that is the subject of collection; and (4) ways to minimize the burden of collections on respondents, including the use of automated collection techniques or other forms of information technology. Comments to the RRB or OIRA must contain the OMB control number of the ICR. For proper consideration of your comments, it is best if the RRB and OIRA receive them within 30 days of the publication date.

1. Title and Purpose of Information Collection: Railroad Service and Compensation Reports/System Access Application; OMB 3220-0008.

Under Section 9 of the Railroad Retirement Act (RRA) and Section 6 of the Railroad Unemployment Insurance Act (RUIA) the Railroad Retirement Board (RRB) maintains for each railroad employee, a record of compensation paid to that employee by all railroad employers for whom the employee worked after 1936. This record, which is used by the RRB to determine eligibility for, and amount of, benefits due under the laws it administers, is conclusive as to the amount of compensation paid to an employee during such period(s) covered by the report(s) of the compensation by the employee's railroad employer(s), except in cases when an employee files a protest pertaining to his or her reported compensation within the statue of limitations cited in Section 9 of the RRA and Section 6 of the RUIA.

Railroad Employers' Reports and Responsibilities are prescribed in 20 CFR 209. The RRB currently utilizes Form BA-3, Annual Report of Creditable Compensation and Form BA-4, Report of Creditable Compensation Adjustments, to secure required information from railroad employers. Form BA-3 provides the RRB with information regarding annual creditable service and compensation for each individual who worked for a railroad employer covered by the RRA and RUIA in a given year. Form BA-4 provides for the adjustment of any previously submitted reports and also the opportunity to provide any service and compensation that had been previously omitted. Requirements specific to Forms BA-3 and BA-4 are prescribed in 20 CFR 209.8 and 209.9.

Employers currently have the option of submitting the reports on the aforementioned forms, electronically by File Transfer Protocol (FTP), secure Email or via the Internet utilizing the RRB's Employer Reporting System (ERS) (for Form BA-4), or in like format on magnetic tape cartridges, and CD-ROMs. The RRB proposes the implementation of an Internet equivalent version of Form BA-3 that can be submitted through the ERS which will include the option to file a “negative report.”

The information collection also includes RRB Form BA-12, Application for Employer Reporting Internet Access, and Form G-440, Report Specifications Sheet. Form BA-12 is completed by railroad employers to obtain system access to the RRB's Employer Reporting System (ERS) as well as to authorize the degree of access (view/only, data entry/modification or approval/submission) appropriate for designated employees. Once access is obtained, authorized employees may submit reporting forms to the RRB via the Internet. Form BA-12 is also used to terminate an employee's access to ERS. Form G-440, Report Specifications Sheet, serves as a certification document for various RRB employer reporting forms (the previously mentioned BA-3 and BA-4 as well as the BA-6a, BA-6, Address Report (OMB 3220-0005); BA-9, Report of Separation Allowance or Severance Pay (OMB 3220-0173); and BA-11, Report of Gross Earnings (OMB 3220-0132)), records the type of medium the report was submitted on, and serves as a summary recapitulation sheet for reports filed on paper.

Submission of Forms BA-3, BA-4, and G-440 is mandatory. Completion of Form BA-12 is voluntary. One response is requested of each respondent for all of the forms in the collection. Depending on circumstances and method of submission chosen, multiple responses will be received from a respondent for Forms BA-4 and G-440.

Previous Requests for Comments: The RRB has already published the initial 60-day notice (76 FR 54812 on September 2, 2011) required by 44 U.S.C. 3506(c)(2). That request elicited no comments.

Information Collection Request (ICR)

Title: Railroad Service and Compensation Reports/System Access Application.

OMB Control Number: 3220-0008.

Forms Submitted: BA-3, BA-3 (Internet), BA-4, BA-4 (Internet), BA-12, and Form G-440.

Type of Request: Revision of a currently approved collection of information.

Affected Public: Private Sector.

Abstract: Under the Railroad Retirement Act and Railroad Unemployment Insurance Act, employers are required to report service and compensation for each employee to update Railroad Retirement Board records for payments of benefits. The collection obtains service and compensation information, information needed to ensure secure system access from employers who voluntarily opt to use the RRB's Internet-based Employer Reporting System to submit reporting forms, and information needed to certify employer reporting transactions.

Changes Proposed: The RRB proposes the implementation of an Internet equivalent version of Form BA-3 that can be submitted through ERS, which will include the option to file a “negative report.” Minor non-burden impacting changes are proposed to Forms BA-4, BA-12 and G-440.

The Burden Estimate for the ICR Is as Follows:

Reporting | Responses | Time (minutes) | Burden (hours)
BA-3
Paper | 20 | 7,011 | 2,337
|  | (116.85 hrs)
Electronic Media | 152 | 2,775 | 7,030
|  | (46.25 hrs)
BA-3 (Internet) | 410 | 2,775 | 18,963
|  | (46.25 hrs)
BA-4
Paper | 160 | 75 | 200
Electronic Media | 285 | 60 | 285
BA-4 (Internet) | 3,852 | 20 | 1,284
BA-12
Initial Access | 550 | 20 | 183
Access Termination | 50 | 10 | 8
G-440 (certification)
Form BA-3 (zero employees) | 26 | 15 | 7
Form BA-11 (zero employees) | 138 | 15 | 35
Paper forms (without recap) | 270 | 15 | 68
Electronic transactions | 728 | 30 | 364
BA-3 and BA-4 (with recap) | 200 | 75 | 250
Total | 6,841 |  | 31,014

2. Title and purpose of information collection: Medical Reports; OMB 3220-0038. Under Sections 2(a)(1)(iv) and 2(a)(1)(v) of the Railroad Retirement Act (RRA), annuities are payable to qualified railroad employees whose physical or mental condition makes them unable to (1) work in their regular occupation (occupational disability) or (2) work at all (permanent total disability). The requirements for establishing disability and proof of continuing disability under the RRA are prescribed in 20 CFR 220.

Under Sections 2(c)(1)(ii)(C) and 2(d)(1)(ii) of the RRA, annuities are also payable to qualified spouses and widow(ers), respectively, who have a qualifying child who became disabled before age 22. Annuities are also payable to surviving children on the basis of disability under section 2(d)(1)(iii)(C) if the child's disability began before age 22 as well as to widow(er)s on the basis of disability under section 2(d)(1)(i)(B). To meet the disability standard, the RRA provides that individuals must have a permanent physical or mental condition such that they are unable to engage in any regular employment.

Under Section 2(d)(1)(v) of the RRA, annuities are also payable to remarried widow(er)s and surviving divorced spouses on the basis of, among other things, disability or having a qualifying disabled child in care. However, the disability standard in these cases is that found in the Social Security Act. That is, individuals must be unable to engage in any substantial gainful activity by reason of any medically determinable physical or mental impairment. The RRB also determines entitlement to a Period of Disability and entitlement to early Medicare based on disability for qualified claimants in accordance with Section 216 of the Social Security Act.

When making disability determinations, the RRB needs evidence from acceptable medical sources. The RRB currently utilizes Forms G-3EMP, Report of Medical Condition by Employer; G-197, Authorization to Release Medical Information to the Railroad Retirement Board; G-250, Medical Assessment; G-250A, Medical Assessment of Residual Functional Capacity; G-260, Report of Seizure Disorder; RL-11B, Disclosure of Hospital Medical Records; RL-11D, Disclosure of Medical Records from a State Agency; and RL-250, Request for Medical Assessment, to obtain the necessary medical evidence. One response is requested of each respondent. Completion is voluntary.

Previous requests for comments: The RRB has already published the initial 60-day notice (76 FR 52025 on August 19, 2011) required by 44 U.S.C. 3506(c)(2). That request elicited no comments.

Information Collection Request (ICR)

Title: Medical Reports.

OMB Control Number: 3220-0038.

Form(s) submitted: G-3EMP, G-197, G-250, G-250a, G-260, RL-11B, RL-11D, RL-250.

Type of request: Revision of a currently approved collection of information.

Affected public: Individuals or households; Private Sector; State, Local and Tribal Government.

Abstract: The Railroad Retirement Act provides disability annuities for qualified railroad employees whose physical or mental condition renders them incapable of working in their regular occupation (occupational disability) or any occupation (total disability). The medical reports obtain information needed for determining the nature and severity of the impairment.

Changes proposed: The RRB proposes minor editorial changes to Form G-197. No changes to the other forms in the collection are proposed.

The burden estimate for the ICR is as follows:

Form No. | Annual responses | Time (minutes) | Burden (hours)
G-3EMP | 600 | 10 | 100
G-197 | 6,000 | 10 | 1,000
G-250 | 11,950 | 30 | 5,975
G-250A | 50 | 20 | 17
G-260 | 100 | 25 | 42
RL-11B | 5,000 | 10 | 833
RL-11D | 250 | 10 | 42
RL-250 | 11,950 | 10 | 1,992
Total | 35,900 |  | 10,001

3. Title and purpose of information collection: Student Beneficiary Monitoring; OMB 3220-0123.

Under provisions of the Railroad Retirement Act (RRA), there are two types of benefit payments that are based on the status of a child being in full-time elementary or secondary school attendance at age 18-19: A survivor child's annuity benefit under Section 2(d)(2)(iii) and an increase in the employee retirement annuity under the Special Guaranty computation as prescribed in section 3(f)(3) and 20 CFR 229.

The survivor student annuity is usually paid by direct deposit to a financial institution either into the student's checking or savings account or into a joint bank account with a parent. The requirements for eligibility as a student are prescribed in 20 CFR 216.74, and include students in independent study and home schooling.

To help determine if a child is entitled to student benefits, the RRB requires evidence of full-time school attendance. This evidence is acquired through the RRB's student monitoring program, which utilizes the following forms. Form G-315, Student Questionnaire, obtains certification of a student's full-time school attendance as well as information on the student's marital status, Social Security benefits, and employment, which are needed to determine entitlement or continued entitlement to benefits under the RRA. Form G-315A, Statement of School Official, is used to obtain, from a school, verification of a student's full-time attendance when the student fails to return a monitoring Form G-315. Form G-315A.1, School Official's Notice of Cessation of Full-Time School Attendance, is used by a school to notify the RRB that a student has ceased full-time school attendance.

Previous Requests for Comments: The RRB has already published the initial 60-day notice (76 FR 52026 on August 19, 2011) required by 44 U.S.C. 3506(c)(2). That request elicited no comments.

Information Collection Request (ICR)

Title: Student Beneficiary Monitoring.

OMB Control Number: 3220-0123.

Form(s) submitted: G-315, G-315A, G-315A.1.

Type of request: Extension without change of a currently approved collection.

Affected public: Individuals or Households.

Abstract: Under the Railroad Retirement Act (RRA), a student benefit is not payable if the student ceases full-time school attendance, marries, works in the railroad industry, has excessive earnings or attains the upper age limit under the RRA. The report obtains information to be used in determining if benefits should cease or be reduced.

Changes proposed: The RRB proposes no changes to the forms in the collection.

The burden estimate for the ICR is as follows:

Form No. | Annual responses | Time (minutes) | Burden (hours)
G-315 | 860 | 15 | 215
G-315A | 20 | 3 | 1
G-315A.1 | 20 | 2 | 1
Total | 900 |  | 217

4. Title and Purpose of information collection: Gross Earnings Report; OMB 3220-0132. In order to carry out the financial interchange provisions of section 7(c)(2) of the Railroad Retirement Act (RRA), the RRB obtains annually, from railroad employers, the gross earnings for their employees on a one-percent basis, i.e., 1% of each employer's railroad employees. The gross earnings sample is based on the earnings of employees whose social security numbers end with the digits “30.” The gross earnings are used to compute payroll taxes under the financial interchange.

The gross earnings information is essential in determining the tax amounts involved in the financial interchange with the Social Security Administration and Centers for Medicare & Medicaid Services. Besides being necessary for current financial interchange calculations, the gross earnings file tabulations are also an integral part of the data needed to estimate future tax income and corresponding financial interchange amounts. These estimates are made for internal use and to satisfy requests from other government agencies and interested groups. In addition, cash flow projections of the social security equivalent benefit account and railroad retirement account, as well as cost estimates made for proposed amendments to laws administered by the RRB, are dependent on input developed from the information collection.

The RRB utilizes Form BA-11 or its electronic equivalents to obtain gross earnings information from railroad employers. Employers currently have the option of preparing and submitting BA-11 reports on paper, or in like format on magnetic tape cartridges, File Transfer Protocol (FTP), or secure Email. Completion is mandatory. One response is requested of each respondent.

Previous Requests for Comments: The RRB has already published the initial 60-day notice (76 FR 54812 on September 2, 2011) required by 44 U.S.C. 3506(c)(2). That request elicited no comments.

Information Collection Request (ICR)

Title: Gross Earnings Report.

OMB Control Number: 3220-0132.

Form(s) submitted: BA-11.

Type of request: Revision of a currently approved collection of information.

Affected public: Private Sector.

Abstract: Section 7(c)(2) of the Railroad Retirement Act requires a financial interchange between the OASDHI trust funds and the railroad retirement account. The collection obtains gross earnings of railway employees on a 1% basis. The information is used to determine the amount which would place the OASDHI trust funds in the position they would have been if railroad service had been covered by the Social Security and FIC Acts.

Changes proposed: The RRB proposes no changes to Form BA-11. However, the RRB does propose the implementation of an Internet equivalent version of Form BA-11 that can be submitted through the Employer Reporting System, which will include the option to file a “negative report.”

The burden estimate for the ICR is as follows:

Form Number | Annual responses | Time (minutes) | Burden (hours)
BA-11 magnetic tape/file transfer protocol | 9 | 300 (5 hrs) | 45
BA-11 manual form | 38 | 30 | 19
BA-11 CD-ROM | 13 | 30 | 6
BA-11 secure Email | 23 | 30 | 11
BA-11 (Internet)
Positive Reports | 77 | 30 | 38
Negative Reports | 217 | 15 | 54
Total | 377 |  | 173

5. Title and Purpose of information collection: RUIA Claims Notification and Verification System; OMB 3220-0171.

Section 5(b) of the Railroad Unemployment Insurance Act (RUIA), requires that effective January 1, 1990, when a claim for benefits is filed with the Railroad Retirement Board (RRB), the RRB shall provide notice of the claim to the claimant's base year employer(s) to provide them an opportunity to submit information relevant to the claim before making an initial determination. If the RRB determines to pay benefits to the claimant under the RUIA, the RRB shall notify the base-year employer(s).

The purpose of the RUIA Claims Notification and Verification System is to provide two notices, pre-payment Form ID-4K, Prepayment Notice of Employees' Applications and Claims for Benefits Under the Railroad Unemployment Insurance Act, and post-payment Form ID-4E, Notice of RUIA Claim Determination.

Prepayment Form ID-4K provides notice to a claimant's base-year employer(s), of each unemployment application and unemployment and sickness claim filed for benefits under the RUIA and provides the employer an opportunity to convey information relevant to the proper adjudication of the claim. The railroad employer can elect to receive notices of applications and claims by one of three options: A computer-generated Form Letter ID-4K paper notice, an Electronic Data Interchange (EDI) version of the Form Letter ID-4K notice, or an Internet equivalent ID-4K, which is transmitted through the RRB's Internet-based Employer Reporting System (ERS).

The railroad employer can respond to the ID-4K notice by telephone, manually by mailing a completed ID-4K back to the RRB, or electronically via EDI or ERS. Completion is voluntary.

Once the RRB determines to pay a claim post-payment Form Letter ID-4E, Notice of RUIA Claim Determination, is used to notify the base-year employer(s). This gives the employer a second opportunity to challenge the claim for benefits.

The mainframe-generated ID-4E paper notice and the EDI and Internet equivalent versions are transmitted on a daily basis, generally on the same day that the claims are approved for payment. Railroad employers who are mailed Form ID-4E are instructed to write if they want a reconsideration of the RRB's determination to pay. Employers who receive the ID-4E electronically, may file a reconsideration request by completing the ID-4E by either EDI or ERS. Completion is voluntary.

Previous Requests for Comments: The RRB has already published the initial 60-day notice (76 FR 55719 on September 8, 2011) required by 44 U.S.C. 3506(c)(2). That request elicited no comments.

Information Collection Request (ICR)

Title: RUIA Claims Notification and Verification System.

OMB Control Number: 3220-0171.

Form(s) submitted: ID-4K, ID-4K (INTERNET), ID-4E, ID-4E (INTERNET).

Type of request: Extension without change of a currently approved collection.

Affected public: Private Sector; Businesses or other for-profits.

Abstract: Section 5(b) of the RUIA requires that effective January 1, 1990, when a claim for benefits is filed with the Railroad Retirement Board (RRB), the RRB shall provide notice of such claim to the claimant's base-year employer(s) and afford such employer(s) an opportunity to submit information relevant to the claim before making an initial determination on the claim. When the RRB determines to pay benefits to a claimant under the RUIA, the RRB shall provide notice of such determination to the claimant's base year employer.

Changes proposed: The RRB proposes no changes to the forms in the collection.

The burden estimate for the ICR is as follows:

Form No. | Annual responses | Time (minutes) | Burden (hours)
ID-4K (Manual) | 1,250 | 2 | 42
ID-4K (EDI) | 24,215 | (*) | 210
ID-4K (Internet) | 52,300 | 2 | 1,743
ID-4E (Manual) | 50 | 2 | 2
ID-4E (Internet) | 120 | 2 | 4
Total | 77,935 |  | 2,001
* The burden for the 5 participating employers who transmit EDI responses is calculated at 10 minutes each per day, 251 workdays a year or 210 total hours of burden.

Additional Information or Comments: Copies of the forms and supporting documents can be obtained from Charles Mierzwa, the agency clearance officer (312) 751-3363 or Charles.Mierzwa@RRB.GOV).

Comments regarding the information collection should be addressed to Patricia Henaghan, Railroad Retirement Board, 844 North Rush Street, Chicago, Illinois, 60611-2092 or Patricia.Henaghan@RRB.GOV and to the OMB Desk Officer for the RRB, Fax: (202) 395-6974, Email address: OIRA_Submission@omb.eop.gov.

Charles Mierzwa,
Clearance Officer.

[FR Doc. 2011-29698 Filed 11-16-11; 8:45 am]

BILLING CODE 7905-01-P